DEPARTMENT OF TRANSPORTATION

Federal Aviation Administration

14 CFR Part 39

[Docket No. FAA-2008-1327; Directorate Identifier 2008-NM-161-AD; Amendment 39-15859; AD 2009-06-22]

RIN 2120-AA64

Airworthiness Directives; Airbus Model A318, A319, A320, and A321 Airplanes

AGENCY: Federal Aviation Administration (FAA), Department of Transportation (DOT).

ACTION: Final rule; correction.

SUMMARY: The FAA is correcting a typographical error in an existing airworthiness directive (AD) that was published in the Federal Register on March 24, 2009 (74 FR 12247). The error resulted in publication of an incorrect AD number. This AD applies to certain Airbus Model A318, A319, A320, and A321 airplanes. This AD requires the installation of improved cockpit door latch/striker assemblies.

DATES: Effective April 28, 2009.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION: On March 12, 2009, the FAA issued AD 2009-06-22, amendment 39-15859 (74 FR 12247, March 24, 2009), for certain Airbus Model A318, A319, A320, and A321 airplanes. The AD requires the installation of improved cockpit door latch/striker assemblies.

As published, that final rule incorrectly specified the AD number in a single location in the AD as “2009-09-22” instead of “2009-06-22.”

No other part of the regulatory information has been changed; therefore, the final rule is not republished in the Federal Register.

The effective date of this AD remains April 28, 2009.

§ 39.13 [Corrected]

In the Federal Register of March 24, 2009, on page 12249, in the first column, paragraph 2. of PART 39—AIRWORTHINESS DIRECTIVES is corrected to read as follows:

* * * * *

2009-06-22 Airbus: Amendment 39-15859. Docket No. FAA-2008-1327; Directorate Identifier 2008-NM-161-AD.

* * * * *

Issued in Renton, Washington, on April 27, 2009.
Stephen P. Boyd,
Acting Manager, Transport Airplane Directorate, Aircraft Certification Service.

[FR Doc. E9-10421 Filed 5-5-09; 8:45 am]

BILLING CODE 4910-13-P